DEPARTMENT OF AGRICULTURE

Food Safety and Inspection Service

[Docket No. 04-050N]

Codex Alimentarius Commission: Twenty-sixth Session of the Codex Committee on Methods of Analysis and Sampling

AGENCY: Food Safety and Inspection Service, USDA.

ACTION: Notice of public meeting and request for comments.

SUMMARY: The Office of the Under Secretary for Food Safety, United States Department of Agriculture (USDA), and the Food and Drug Administration (FDA), United States Department of Health and Human Services, are sponsoring a public meeting on March 15, 2005, to provide information and receive public comments on agenda items that will be discussed at the Twenty-sixth Session of the Codex Committee on Methods of Analysis and Sampling (CCMAS) of the Codex Alimentarius Commission (Codex). The 26th Session of the CCMAS will be held in Budapest, Hungary, April 4-8, 2005. The Under Secretary and FDA recognize the importance of providing interested parties the opportunity to obtain background information on the agenda items that will be discussed at this forthcoming session of the CCMAS.

DATES: The public meeting is scheduled for Tuesday, March 15, 2005 from 10:30 a.m. to 12 p.m.

ADDRESSES: The public meeting will be held in the Conference Room 1A 002, Harvey W. Wiley Federal Building, 5100 Paint Branch Parkway, College Park, MD. Documents related to the 26th Session of CCMAS will be accessible via the World Wide Web at the following address: http://www.codexalimentarius.net/web/index_en.asp.

FSIS invites interested persons to submit comments on this notice. Comments may be submitted by any of the following methods:

• Mail, including floppy disks or CD-ROMs, and hand-or courier-delivered items: Send to the FSIS Docket Clerk, U.S. Department of Agriculture, Food Safety and Inspection Service, 300 12th Street, SW., Room 102, Cotton Annex, Washington DC 20730. All Comments received must include the Agency name and docket number 04-050N.

All comments submitted in response to this notice, will be available for public inspection in the FSIS Docket Room at the address listed above between 8:30 a.m. and 4:30 p.m., Monday through Friday. The comments also will be posted on the Agency's Web site at http://www.fsis.usda.gov/regulations/2005_Notices_Index/.

FOR FURTHER INFORMATION ABOUT THE 26TH SESSION OF THE CCMAS CONTACT: U.S. Delegate, Dr. Gregory Diachenko, Director, Division of Chemistry Research and Environmental Review, Center for Food Safety and Applied Nutrition, FDA, Harvey Wiley Federal Building, 5100 Paint Branch Parkway, College Park, Maryland 20740. Phone (301) 436-1898; Fax (301) 436-2364, E-mail: Gregory.diachenko@fda.hhs.gov.

FOR FURTHER INFORMATION ABOUT THE PUBLIC MEETING CONTACT: Syed Amjad Ali, International Issues Analyst, U. S. Codex Office, FSIS, Room 4861, South Agriculture Building, 1400 Independence Avenue, SW., Washington, DC 20250-3700. Phone (202) 205-7760; Fax (202) 720-3157. Persons requiring a sign language interpreter or other special accommodations should notify Dr. Gregory Diachenko, Director, Division of Chemistry Research and Environmental Review, FDA, at telephone (301) 436-1898; Fax (301) 436-2364.

SUPPLEMENTARY INFORMATION:

Background

The Codex Alimentarius Commission (Codex) was established in 1962 by two United Nations organizations, the Food and Agriculture Organization and the World Health Organization. Codex is the major international standard-setting organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Methods of Analysis and Sampling (CCMAS) performs multiple functions; defines criteria appropriate for Codex Methods of Analysis and Sampling; specifies reference methods of analysis and sampling; endorses methods of analysis and sampling proposed by Codex Committees; elaborates sampling plans; and considers specific sampling and analysis problems. The Committee is chaired by Hungary.

Issues To Be Discussed at the Public Meeting

The following items on the agenda for the 26th Session of CCMAS will be discussed during the public meeting:

1. Matters referred by the Codex Alimentarius Commission and other Codex Committees

2. Proposed Draft Guidelines for Evaluating Acceptable Methods of Analysis

3. Fitness-for-Purpose Approach (for inclusion in the Proposed Draft Guidelines for Evaluating Acceptable Methods of Analysis)

4. Proposed Draft Guidelines for Settling Disputes on Analytical (Test) Results

5. Use of Analytical Results (For inclusion in the Procedural Manual)

6. Further Review of Analytical Terminology for Codex Use (For inclusion in the Procedural Manual)

7. Criteria for Methods of analysis for foods derived from biotechnology

8. Methods of analysis for dioxins and PCBs

Each issue listed will be fully described in documents distributed, or to be distributed, by the Hungarian Secretariat to the Meeting. Members of the public may access copies of these documents http://www.codexalimentarius.net/web/index_en.asp.

Public Meeting

At the March 15, 2005 public meeting, these agenda items will be described, discussed, and attendees will have the opportunity to pose questions and offer comments. Written comments may be offered at the meeting or sent to the U.S. Delegate, for the 26th Session of the CCMAS, Dr. Gregory Diachenko (See ADDRESSES). Written comments should state that they relate to activities of the 26th Session of the CCMAS.

Additional Public Information

Public awareness of all segments of rulemaking and policy development is important. Consequently, in an effort to ensure that the public and in particular minorities, women, and persons with disabilities are aware of this notice, FSIS will announce it on-line through the FSIS Web page located at http://www.fsis.usda.gov/regulations/2005NoticesIndex/.

FSIS also will make copies of this Federal Register publication available through the FSIS Constituent Update, which is used to provide information regarding FSIS policies, procedures, regulations, Federal Register notices, FSIS public meeting, recalls, and other types of information that could affect or would be of interest to our constituents and stakeholders. The update is communicated via Listserv, a free e-mail subscription service consisting of industry, trade, and farm groups, consumer interest groups, allied health professionals, scientific professionals, and other individuals who have requested to be included. The update is available on the FSIS web page. Through Listserv and the web page, FSIS is able to provide information to a much broader, more diverse audience.

In addition, FSIS offers an email subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done at Washington, DC on January 25, 2005.
F. Edward Scarbrough,
U.S. Manager for Codex Alimentarius.

[FR Doc. 05-1894 Filed 2-1-05; 8:45 am]

BILLING CODE 3410-DM-P